DEPARTMENT OF THE INTERIOR

Fish and Wildlife Service

[FWS-R8-ES-2008-N0022; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before March 14, 2008.

ADDRESSES: Written data or comments should be submitted to the U.S. Fish and Wildlife Service, Endangered Species Program Manager, Region 8, 2800 Cottage Way, Room W-2606, Sacramento, CA, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-815214

Applicant: Oceano Dunes State Vehicular Recreation Area, Arroyo Grande, California.

The applicant requests an amendment to take (salvage, replace, and transfer non-viable eggs) the California Least Tern (Sterna antillarum browni) in conjunction with surveys and population monitoring in San Luis Obispo and Santa Barbara Counties, California, for the purpose of enhancing its survival.

Permit No. TE-170381

Applicant: William F. Stagnaro, San Francisco, California.

The applicant requests a permit to take (harass by survey, capture, mark, and monitor) the San Francisco garter snake (Thamnophis sirtalis tetrataenia), and the California tiger salamander (Ambystoma californiense) in conjunction with surveys and population monitoring activities throughout the range of each species in California, for the purpose of enhancing their survival.

Permit No. TE-084606

Applicant: David F. Moskovitz, Diamond Bar, California.

The applicant requests an amendment to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California, for the purpose of enhancing their survival.

Permit No. TE-170389

Applicant: Travis B. Cooper, San Juan Capistrano, California.

The applicant requests a permit to take (harass by survey, and nest monitor) the least Bell's vireo (Vireo bellii pusillus), and the Southwestern willow flycatcher (Empidonax traillii extimus) in conjunction with surveys and monitoring throughout the range of each species in California, for the purpose of enhancing its survival.

Permit No. TE-004939

Applicant: Gordon F. Pratt, Riverside, California.

The applicant requests an amendment to take (capture, release, remove from the wild, and captive breed) the El Segundo Blue butterfly (Euphilotes battoides allyni) in conjunction with genetic research at Vandenberg Air Force base, Santa Barbara County, California, for the purposes of enhancing its survival.

Permit No. TE-170403

Applicant: Melissa A. Amarello, Carbondale, California.

The applicant requests a permit to take (harass by survey, capture, mark, and monitor) the San Francisco garter snake (Thamnophis sirtalis tetrataenia) in conjunction with population monitoring and research activities at the Cloverdale Ranch, San Mateo County, California, for the purpose of enhancing their survival.

Permit No. TE-795930

Applicant: Helm Biological Consulting, Lincoln, California.

The permittee requests an amendment to take (harass by survey, capture, handle, and release) the California tiger salamander (Ambystoma californiense) in conjunction with surveys throughout the range of the species in California, for the purpose of enhancing its survival.

Permit No. TE-168282

Applicant: Normandeau Associates, Inc., Stevenson Washington.

The permittee request a permit to take (harass by survey) the razorback sucker (Xyrauchen texanus) and bonytail chub (Gila elegans) in conjunction with surveys and backwater inventories along the lower Colorado river in Imperial County, California, for the purpose of enhancing their survival.

Permit No. TE-170681

Applicant: Stanley C. Spencer, Riverside, California.

The applicant requests an amendment to take (survey by pursuit) the Quino checkerspot butterfly (Euphydryas editha quino) and Delhi sands flower loving fly (Rhaphiomidas terminatus abdominalis), and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California, for the purpose of enhancing their survival.

Permit No. TE-053085

Applicant: Bureau of Reclamation, Boulder City, Navada.

The permittee request a permit to take (harass by survey, electroshock, capture, collect, mark, transport, captive rear, captive propagate, reintroduce) the razorback sucker (Xyrauchen texanus) and bonytail chub (Gila elegans) in conjunction with surveys, population monitoring, and research along the Colorado river in Clark County, Nevada, and San Bernardino, Riverside, and Imperial County, California, for the purpose of enhancing their survival.

We solicit public review and comment on each of these recovery permit applications. Comments and materials we receive will be available for public inspection, by appointment, during normal business hours at the address listed in the ADDRESSES section of this notice.

Dated: February 6, 2008.
Michael Fris,
Acting Regional Director, Region 8, Sacramento, California.

[FR Doc. E8-2586 Filed 2-12-08; 8:45 am]

BILLING CODE 4310-55-P